DEPARTMENT OF LABOR

Employment and Training Administration

[TA-W-37,740]

CompAir LeRoi, Independence, Virginia; Notice of Revised Determination on Reopening

By letter of July 10, 2000, one of the petitioners requested administrative reconsideration of the Department's denial of Trade Adjustment Assistance (TAA) for workers and former workers of the subject firm.

The workers at CompAir LeRoi, Independence, Virginia, engaged in employment related to the production of air compressor pumps, were denied eligibility to apply for TAA based on the finding that criterion (3) of the worker group eligibility requirements of Section 222 of the Trade Act, as amended, was not met. The notice of negative determination was signed on June 14, 2000, and was published in the Federal Register on June 29, 2000 (65 FR 40134)

Review of the information provided by the subject firm shows that when the company implemented plans to shift production to another domestic location, the final product to be relocated from Independence, Virginia, was the reciprocating compressor line. Further review of the information contained in the investigation file shows that although the company intended to temporarily source assembled reciprocating compressors from a foreign supplier, no immediate plan was in place for domestic production of that product. During the first quarter of 2000, sales or production and employment declined when production ceased, and company imports of reciprocating compressors began.

The workers were not separated identifiable by product line.

Conclusion

After careful consideration of the new facts obtained on reopening, it is concluded that the workers of CompAir LeRoi, Independence, Virginia, were adversely affected by increased imports of compressors like or directly competitive with the articles produced at the subject firm.

“All workers of CompAir LeRoi, Independence, Virginia, who became totally or partially separated from employment on or after May 19, 1999, through two years from the date of this determination, are eligible to apply for adjustment assistance under Section 223 of the Trade Act of 1974.”

Signed at Washington, D.C. this 8th day of August 2000.
Grant D. Beale,
Program Manager, Division of Trade Adjustment Assistance.

[FR Doc. 00-22329 Filed 8-30-00; 8:45 am]

BILLING CODE 4510-30-M